DEPARTMENT OF COMMERCE

International Trade Administration

[A-549-841]

Mattresses From Thailand: Final Results of Antidumping Duty Administrative Review; 2022-2023

AGENCY: Enforcement and Compliance, International Trade Administration, Department of Commerce.

SUMMARY: The U.S. Department of Commerce (Commerce) determines that Saffron Living Co., Ltd. (Saffron), the sole producer/exporter subject to this administrative review, made sales of subject merchandise at below normal value during the period of review (POR) May 1, 2022, through April 30, 2023.

DATES: Applicable April 12, 2024.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On January 26, 2024, Commerce published the Preliminary Results in this administrative review in the Federal Register.¹ Although we provided interested parties with an opportunity to comment on the Preliminary Results, no interested party submitted comments.

¹ See Mattresses from Thailand: Preliminary Results of the Antidumping Duty Administrative Review; 2022-2023, 89 FR 5206 (January 26, 2024) (Preliminary Results), and accompanying Preliminary Decision Memorandum.

Scope of the Order ²

² See Mattresses from Cambodia, Indonesia, Malaysia, Serbia, Thailand, the Republic of Turkey, and the Socialist Republic of Vietnam: Antidumping Duty Orders and Amended Final Affirmative Antidumping Determination for Cambodia, 86 FR 26460 (May 14, 2021), amended by Mattresses from Thailand: Notice of Court Decision Not in Harmony with the Final Determination of Antidumping Investigation; Notice of Amended Final Determination; Notice of Amended Order, in Part, 89 FR 456 (January 4, 2024) (Amended Order) (collectively, Order).

The products covered by the Order are mattresses from Thailand. For a complete description of the scope of the Order, see the Preliminary Results.³

³ See Preliminary Results PDM at 2-4.

Final Results of the Review

Because no party commented on the Preliminary Results, we made no changes to the preliminary findings, therein; thus, no decision memorandum accompanies this Federal Register notice. For these final results, we determine that the following estimated weighted-average dumping margin exists for the period of review of May 1, 2022, through April 30, 2023:

Producer and/or exporter | Weighted- average dumping margin (percent)
Saffron Living Co., Ltd | * 763.28
* Adverse facts available.

Disclosure

Normally, Commerce discloses to parties to the proceeding the calculations performed in connection with a final results of review within five days of any public announcement or, if there is no public announcement, within five days of the date of publication of the notice of the final results in the Federal Register, in accordance with 19 CFR 351.224(b). However, because we made no changes from the Preliminary Results, there are no calculations to disclose.

Assessment Rates

Pursuant to section 751(a)(2)(C) of the Act, and 19 CFR 351.212(b)(1), Commerce has determined, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for Saffron will be equal to the weighted-average dumping margin established in these final results of this administrative review; (2) for merchandise exported by companies not covered in this review but covered in a prior completed segment of this proceeding, the cash deposit rate will continue to be the company-specific rate published in the completed segment for the most recent period; (3) if the exporter is not a firm covered in this review, or the less-than-fair-value (LFTV) investigation, but the producer is, then the cash deposit rate will be the cash deposit rate established for the most recently completed segment for the producer of the subject merchandise; and (4) the cash deposit rate for all other producers and exporters will continue to be the all-other rate (i.e., 572.56 percent).⁴ These cash deposit requirements, when imposed, shall remain in effect until further notice.

⁴ See Amended Order, 89 FR at 457.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3). Timely notification of the return, or destruction, of APO materials, or conversion to judicial protective order, is hereby requested. Failure to comply with the regulations and the terms of an APO is a violation subject to sanction.

Notification to Interested Parties

This determination is being issued and published in accordance with sections 751(a)(1) and 777(i) of the Act, and 19 CFR 351.221(b)(5).

Dated: April 5, 2024.
Ryan Majerus,
Deputy Assistant Secretary for Policy and Negotiations, performing the non-exclusive functions and duties of the Assistant Secretary for Enforcement and Compliance.

[FR Doc. 2024-07765 Filed 4-11-24; 8:45 am]

BILLING CODE 3510-DS-P